DEPARTMENT OF VETERANS AFFAIRS

38 CFR Part 5

RIN 2900-AQ92

Administrative Procedures: Guidance Documents; Correction

AGENCY: Department of Veterans Affairs.

ACTION: Final rule; correction.

SUMMARY: The Department of Veterans Affairs (VA) is correcting a final rule that published on November 13, 2020, establishing in regulation its processes and procedures for issuing guidance documents. This final rulemaking will implement the mandates of Executive Order 13891, Promoting the Rule of Law Through Improved Agency Guidance Documents.

DATES: This correction is effective December 14, 2020.

FOR FURTHER INFORMATION CONTACT: Richard Murphy, Office of Policy and Interagency Collaboration, Office of Enterprise Integration, 810 Vermont Avenue NW, Washington, DC 20420, (202) 714-8507. (This is not a toll-free telephone number).

SUPPLEMENTARY INFORMATION: On November 13, 2020, at 85 FR 72569, VA published a rulemaking establishing in regulation its processes and procedures for issuing guidance documents. This final rulemaking will implement the mandates of Executive Order 13891, Promoting the Rule of Law Through Improved Agency Guidance Documents.

Correction

In FR Doc. 2020-25121, appearing on column 3 of page 72570, in the Federal Register of 85 FR 72570, the following correction is made:

1. On page 72570, column 3, the Signing Authority paragraph should read as follows:

“The Secretary of Veterans Affairs approved this document on November 6, 2020, for publication and authorized the undersigned to sign and submit the document to the Office of the Federal Register for publication electronically as an official document of the Department of Veterans Affairs.”

Jeffrey M. Martin,
Assistant Director, Office of Regulation Policy & Management, Office of the Secretary, Department of Veterans Affairs.

[FR Doc. 2020-25474 Filed 11-25-20; 8:45 am]

BILLING CODE 8320-01-P